DEPARTMENT OF TRANSPORTATION

Federal Aviation Administration

14 CFR Part 71

[Docket No. FAA-2025-0062; Airspace Docket No. 25-AEA-1]

RIN 2120-AA66

Amendment of Class E Airspace; Beckley, WV

AGENCY: Federal Aviation Administration (FAA), DOT.

ACTION: Notice of proposed rulemaking (NPRM).

SUMMARY: This action proposes to amend the Class E airspace at Beckley, WV. The FAA is proposing this action as the result of an airspace review conducted due to the decommissioning of the Beckley very high frequency omnidirectional range (VOR) as part of the VOR Minimum Operational Network (MON) Program. This action will bring the airspace into compliance with FAA orders and support instrument flight rule (IFR) procedures and operations.

DATES: Comments must be received on or before March 3, 2025.

ADDRESSES: Send comments identified by FAA Docket No. FAA-2025-0062 and Airspace Docket No. 25-AEA-1 using any of the following methods:

* Federal eRulemaking Portal: Go to www.regulations.gov and follow the online instruction for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to Docket Operations in Room W12-140 of the West Building Ground Floor at 1200 New Jersey Avenue SE, Washington, DC, between 9 a.m. and 5 p.m., Monday through Friday, except Federal holidays.

FAA Order JO 7400.11J, Airspace Designations and Reporting Points, and subsequent amendments can be viewed online at www.faa.gov/air_traffic/publications/. You may also contact the Rules and Regulations Group, Office of Policy, Federal Aviation Administration, 800 Independence Avenue SW, Washington DC 20591; telephone: (202) 267-8783.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would amend the Class E surface airspace and Class E airspace extending upward from 700 feet above the surface at Raleigh County Memorial Airport, Beckley, WV, to support IFR operations at this airport.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it received on or before the closing date for comments. The FAA will consider comments filed after the comment period has closed if it is possible to do so without incurring expense or delay. The FAA may change this proposal in light of the comments it receives.

Privacy: In accordance with 5 U.S.C. 553(c), DOT solicits comments from the public to better inform its rulemaking process. DOT post these comments, without edit, including any personal information the commenter provides, to www.regulations.gov as described in the system of records notice (DOT/ALL-14FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received, and any final disposition in person in the Dockets Office (see the ADDRESSES section for the address, phone number, and hours of operations). An informal docket may also be examined during normal business hours at the Federal Aviation Administration, Air Traffic Organization, Central Service Center, Operations Support Group, 10101 Hillwood Parkway, Fort Worth, TX 76177.

Incorporation by Reference

Class E airspace is published in paragraphs 6002 and 6005 of FAA Order JO 7400.11, Airspace Designations and Reporting Points, which is incorporated by reference in 14 CFR 71.1 on an annual basis. This document proposes to amend the current version of that order, FAA Order JO 7400.11J, dated July 31, 2024, and effective September 15, 2024. These updates would be published subsequently in the next update to FAA Order JO 7400.11. That order is publicly available as listed in the ADDRESSES section of this document.

FAA Order JO 7400.11J lists Class A, B, C, D, and E airspace areas, air traffic service routes, and reporting points.

The Proposal

The FAA is proposing an amendment to 14 CFR part 71 by:

Modifying the Class E surface airspace at Raleigh County Memorial Airport, Beckley, WV, by removing the Beckley VORTAC and all associated extensions from the airspace legal description; adding an extension within 1 mile each side of the 007° bearing from the Raleigh County MEML: RWY 19-LOC extending from the 4.3-mile radius to 5.2 miles north of the Raleigh County MEML: RWY 19-LOC; adding an extension within 1 mile each side of the 008° bearing from the airport extending from the 4.3-mile radius to 4.9 miles north of the airport; adding an extension 1 mile each side of the 048° bearing from the airport extending from the 4.3-mile radius to 5 miles northeast of the airport; and adding an extension 1 mile each side of the 187° bearing from the airport extending from the 4.3-mile radius to 5.1 miles south of the airport;

And modify the Class E airspace extending upward from 700 feet above the surface to within a 6.8-mile (reduced from a 7-mile) radius of Raleigh County Memorial Airport; removing the Beckley VORTAC and associated extensions from the airspace legal description; adding an extension 2 miles each side of the 048° bearing from the airport extending from the 6.8-mile radius to 8.9 miles northeast of the airport; and adding an extension 2 miles each side of the 187° bearing from the airport extending from the 6.8-mile radius to 8.8 miles south of the airport.

This action is the result of an airspace review conducted as part of the decommissioning of the Beckley VOR as part of the VOR MON Program and to support IFR operations at this airport.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f); 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 6002 Class E Airspace Areas Designated as Surface Areas.

* * * * *

AEA WV E2 Beckley, WV [Amended]

Raleigh County Memorial Airport, WV

(Lat 37°47′14″ N, long 81°07′27″ W)

Raleigh County MEML: RWY 19-LOC

(Lat 37°46′42″N, long 81°07′36″W)

Within a 4.3-mile radius of Raleigh County Memorial Airport; and within 1 mile each side of the 007° bearing from the Raleigh County MEML: RWY 19-LOC extending from the 4.3-mile radius to 5.2 miles north of the Raleigh County MEML: RWY 19-LOC; and within 1 mile each side of the 008° bearing from the airport extending from the 4.3-mile radius to 4.9 miles north of the airport; and within 1 mile each side of the 048° bearing from the airport extending from the 4.3-mile radius to 5 miles northeast of the airport; and within 1 mile each side of the 187° bearing from the airport extending from the 4.3-mile radius to 5.1 miles south of the airport.

* * * * *

Paragraph 6005 Class E Airspace Areas Extending Upward From 700 Feet or More Above the Surface of the Earth.

* * * * *

AEA WV E5 Beckley, WV [Amended]

Raleigh County Memorial Airport, WV

(Lat 37°47′14″ N, long 81°07′27″ W)

That airspace extending upward from 700 feet above the surface within a 7-mile radius of Raleigh County Memorial Airport; and within 2 miles each side of the 048° bearing from the airport extending from the 6.8-mile radius to 8.9 miles northeast of the airport; and within 2 miles each side of the 187° bearing from the airport extending from the 6.8-mile radius to 8.8 miles south of the airport.

* * * * *

Issued in Fort Worth, Texas, on January 13, 2025.
Martin A. Skinner,
Acting Manager, Operations Support Group, ATO Central Service Center.

[FR Doc. 2025-00972 Filed 1-15-25; 8:45 am]

BILLING CODE 4910-13-P